ENVIRONMENTAL PROTECTION AGENCY

40 CFR Part 70

[FRL-7072-1]

Clean Air Act Full Approval of Operating Permits Program In Idaho

AGENCY: Environmental Protection Agency (EPA).

ACTION: Final rule.

SUMMARY: EPA is taking final action to fully approve the operating permits program submitted by the State of Idaho. Idaho's operating permits program was submitted in response to the directive in the Clean Air Act that permitting authorities develop, and submit to EPA, programs for issuing operating permits to all major stationary sources and to certain other sources within the permitting authority's jurisdiction.

EFFECTIVE DATE: November 5, 2001.

ADDRESSES: Copies of the State of Idaho's submittal, and other supporting information used in developing this final full approval, are available for inspection during normal business hours at the U.S. Environmental Protection Agency, Region 10, 1200 Sixth Avenue, Seattle, Washington, 98101. Interested persons wanting to examine these documents should make an appointment with the appropriate office at least 24 hours before the visiting day.

FOR FURTHER INFORMATION CONTACT: Denise Baker, Office of Air Quality (OAQ-107), EPA, 1200 6th Avenue, Seattle, WA 98101, (206) 553-8087.

SUPPLEMENTARY INFORMATION

I. Background

The Clean Air Act (CAA) Amendments of 1990 required all state and local permitting authorities to develop operating permits programs that meet certain Federal criteria. Idaho's operating permit program was submitted in response to this directive. EPA granted interim approval to Idaho's air operating permit program on December 6, 1996 (61 FR 64622).

On July 9, 1998, the State of Idaho sent a letter to EPA addressing the interim approval issues, transmitting its revised title V statutes and rules, and requesting full approval of Idaho's air operating permits program. EPA received additional submittals from Idaho addressing the interim approval issues and transmitting additional changes in its statutes and rules on May 25, 1999, and March 15, 2001. In these submittals, the State also discussed other changes it has made to its operating permits program since it obtained interim approval and requested approval of these changes. These changes include designating the Idaho Division of Environmental Quality, which was the permit issuing authority at the time of interim approval, as a State Department, now entitled the Idaho Department of Environmental Quality (IDEQ). These changes also include a renumbering and recodification of all of Idaho's air quality regulations.

EPA reviewed the program revisions submitted by the State of Idaho and promulgated a proposal to approve Idaho's title V operating permits program, and, with one exception, the other changes mentioned above, on August 13, 2001 (66 FR 42490). EPA received no public comment on that proposal.

II. Final Action

EPA is granting full approval to the operating permits program submitted by IDEQ based on the revisions submitted on July 9, 1998, May 25, 1999, and March 15, 2001, which satisfactorily address the program deficiencies identified in EPA's December 6, 1996 Interim Approval Rulemaking. See 61 FR 64622. In addition, EPA is approving, as a title V operating permit program revision, IDEQ's designation as a department and the Idaho title V permitting authority; the recodification and renumbering of Idaho's title V rules; and Idaho's revised regulations for permit revision procedures, compliance certification, and the deferral of permitting nonmajor sources submitted on the same dates. EPA is not taking action on Idaho's revised fee rules. As previously discussed, EPA will be conducting a review of Idaho's title V fees to determine whether the fees collected are sufficient to cover its title V permit program costs and whether title V fees are used solely for title V permit program costs. See 66 FR 42495.

Consistent with EPA's previous actions, this approval does not extend to “Indian Country,” as defined in 18 U.S.C. 1151. See 64 FR 8247, 8250-8251 (February 19, 1999); 59 FR 42552, 42554 (August 18, 1994).

III. Administrative Requirements

Under Executive Order 12866, “Regulatory Planning and Review” (58 FR 51735, October 4, 1993), this final approval is not a “significant regulatory action” and therefore is not subject to review by the Office of Management and Budget. Under the Regulatory Flexibility Act (5 U.S.C. 601 et seq.) the Administrator certifies that this final approval will not have a significant economic impact on a substantial number of small entities because it merely approves state law as meeting federal requirements and imposes no additional requirements beyond those imposed by state law. This rule does not contain any unfunded mandates and does not significantly or uniquely affect small governments, as described in the Unfunded Mandates Reform Act of 1995 (Public Law 104-4) because it approves pre-existing requirements under state law and does not impose any additional enforceable duties beyond that required by state law. This rule also does not have tribal implications because it will not have a substantial direct effect on one or more Indian tribes, on the relationship between the Federal Government and Indian tribes, or on the distribution of power and responsibilities between the Federal Government and Indian tribes, as specified by Executive Order 13175, “Consultation and Coordination with Indian Tribal Governments” (65 FR 67249, November 9, 2000). This rule also does not have Federalism implications because it will not have substantial direct effects on the States, on the relationship between the national government and the States, or on the distribution of power and responsibilities among the various levels of government, as specified in Executive Order 13132, “Federalism” (64 FR 43255, August 10, 1999). This rule merely approves existing requirements under state law, and does not alter the relationship or the distribution of power and responsibilities between the State and the Federal government established in the Clean Air Act. This final approval also is not subject to Executive Order 13045, “Protection of Children from Environmental Health Risks and Safety Risks” (62 FR 19885, April 23, 1997) or Executive Order 13211, “Actions Concerning Regulations That Significantly Affect Energy Supply, Distribution, or Use” (66 FR 28355, May 22, 2001), because it is not a significant regulatory action under Executive Order 12866. This action will not impose any collection of information subject to the provisions of the Paperwork Reduction Act, 44 U.S.C. 3501 et seq., other than those previously approved and assigned OMB control number 2060-0243. For additional information concerning these requirements, see 40 CFR part 70. An agency may not conduct or sponsor, and a person is not required to respond to, a collection of information unless it displays a currently valid OMB control number.

In reviewing State operating permit programs submitted pursuant to title V of the Clean Air Act, EPA will approve State programs provided that they meet the requirements of the Clean Air Act and EPA's regulations codified at 40 CFR part 70. In this context, in the absence of a prior existing requirement for the State to use voluntary consensus standards (VCS), EPA has no authority to disapprove a State operating permit program for failure to use VCS. It would thus be inconsistent with applicable law for EPA, when it reviews an operating permit program, to use VCS in place of a State program that otherwise satisfies the provisions of the Clean Air Act. Thus, the requirements of section 12(d) of the National Technology Transfer and Advancement Act of 1995 (15 U.S.C. 272 note) do not apply.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective November 5, 2001.

Under section 307(b)(1) of the Clean Air Act, petitions for judicial review of this action must be filed in the United States Court of Appeals for the appropriate circuit by December 3, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 70

Environmental protection, Administrative practice and procedure, Air pollution control, Incorporation by reference, Intergovernmental relations, Operating permits, Reporting and recordkeeping requirements.

Dated: September 24, 2001.
Charles E. Findley,
Acting Regional Administrator, Region 10.

40 CFR part 70, chapter I, title 40 of the Code of Federal Regulations is amended as follows:

PART 70—[AMENDED]

1. The authority citation for part 70 continues to read as follows:

Authority: 42 U.S.C. 7401 et seq.

2. In appendix A to part 70, the entry for Idaho is amended by revising paragraph (a) to read as follows:

Appendix A to Part 70—Approval Status of State and Local Operating Permits Programs

* * * * *

Idaho

(a) Idaho Division of Environmental Quality: submitted on January 20, 1995, and supplemented on July 14, 1995, September 15, 1995, and January 12, 1996; interim approval effective on January 6, 1997; revisions submitted on July 9, 1998, May 25, 1999, and March 15, 2001; full approval effective on November 5, 2001.

* * * * *

[FR Doc. 01-24900 Filed 10-3-01; 8:45 am]

BILLING CODE 6560-50-P